DEPARTMENT OF DEFENSE

Office of the Secretary

Domestic Advisory Panel (DAP) on Early Intervention and Education for Infants, Toddlers, Preschool Children, and Children With Disabilities

AGENCY: Department of Defense Domestic Dependent Elementary and Secondary Schools (DDESS), DOD.

ACTION: Notice.

SUMMARY: Pursuant to Pub. L. 92-463, as amended (5 U.S.C. app. II), the Federal Advisory Committee Act, notice is hereby given that a meeting of the Domestic Advisory Panel on Early Intervention and Education for Infants, Toddlers, Preschool Children, and Children with Disabilities is scheduled. The meeting is open to the public.

The purpose of the meeting is to (1) Review the responses to the panel's recommendations from its December 2002 meeting; (2) review and comment on data and information provided by Department of Defense Domestic Dependent Elementary and Secondary Schools (DDESS); and (3) establish subcommittees as necessary.

DATES: April 29-30, 2003 from 8:30 a.m. to 3:30 p.m. each day.

ADDRESSES: The meeting will be held in the District Central Office at Building 855, 855 Stone Street, Camp Lejeune, NC 28547.

FOR FURTHER INFORMATION CONTACT: Dr. Cynthia Chen, (678) 364-8010.

SUPPLEMENTARY INFORMATION: Persons desiring to attend the meeting or desiring to make oral presentation or submit written statements for consideration by the panel must contact Dr. Cynthia Chen at (678) 364-8010 by April 15, 2003.

Dated: February 26, 2003.
Patricia L. Toppings,
Alternate OSD Federal Register Liaison Officer, Department of Defense.

[FR Doc. 03-5064 Filed 3-4-03; 8:45 am]

BILLING CODE 5001-08-M